DEPARTMENT OF TRANSPORTATION

Federal Aviation Administration

Eleventh Meeting: RTCA Special Committee 217, Joint With EUROCAE Working Group—44, Terrain and Airport Mapping Databases

AGENCY: Federal Aviation Administration (FAA), U.S. Department of Transportation (DOT).

ACTION: Notice of meeting RTCA Special Committee 217, Joint with EUROCAE Working Group—44, Terrain and Airport Mapping Databases.

SUMMARY: The FAA is issuing this notice to advise the public of the Eleventh meeting of RTCA Special Committee 217, Joint with EUROCAE Working Group—44, Terrain and Airport Mapping Databases.

DATES: The meeting will be held April 2-5, 2012, from 9 a.m.-5 p.m.

ADDRESSES: The meeting will be held at SESAR A6 Brussels Office, Avenue de Kortenberg 100, Brussells, Belgium. Contact information, John Kasten, email: john.kasten@jeppesen.com, or telephone: 303-328-4535 or mobile phone: 303-260-9652, alternate contact information: Stephane Dubet: stephane.dubet@aviation-civile.grouv.fr, or telephone: 33-5-57-92-57-81 or mobile, 33-5-57-92-55-55 1150.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 217. The agenda will include the following:

April 2-5, 2012

• Chairmen's remarks and introductions

• Housekeeping

• Approve minutes from previous meeting

• Review and approve meeting agenda

• Schedule for this week

• PMC Meeting, March 21, 2012

• March PMC Materials from March 21st Meeting Will Be Provided

• Working Group Reports (Activity Status)

• Working Group Leads are to report on activities that have occurred since the September meeting.

• For Working Groups and Leads, See Last Page

• Full Committee Working Group ASRN V&V Document (DO-xxx)

• Terms of Reference (ToR) for SC-217/WG-44 include the preparation of a new RTCA Document on the Verification and Validation of Airport Surface Routing Networks.

• Discuss progress made since the Phoenix Meeting and review any action items

• Terrain and Obstacle Working Group Report

• Continue working towards document publication.

• High level committee review of items from work programs that have been finalized and have or will be provided for document(s) update within the current schedule.

• Finalize the draft for release to the FRAC process.

• Other Working Group Reports

• Working Group Leads presentations on work in progress with Committee Participation

• Continue to prioritize in terms of “next document release or later”.

• Leadership Report on the status of ToR updates.

• Guidance Material Working Group

• Determine the future of the Efforts of This Working Group.

• Terrain and Obstacle Working Group Session

• Working Group Lead will provide full committee assistance on outstanding issues

Discussion the differences between AIXM and the Modeling Effort for Terrain and Obstacles within the Committee

Decided on a method for addressing the use of the term “obstacle” in DO-276 and “vertical structure” in DO-272.

Determine if and how to re-write Appendix E.

Review work on Temporality.

ASRN V&V Full Committee Working Group

• Co-Chairs will present continuation of the drafting work discussed in Phoenix.

• Action Item results completed

• Working Group Road Map Review

• The existing Road Map will be addressed within the appropriate Working Group.

• Action Item Review

• New items from December 2011 Meeting

• Closing Plenary Session Joint RTCA SC-217/EUROCAE WG-44

• Assignment/Review of Future Work

• Other Business

• Date and Place of Next Meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 5, 2012.
John Raper,
Manager, Business Operations Branch, Federal Aviation Administration.

[FR Doc. 2012-5808 Filed 3-9-12; 8:45 am]

BILLING CODE 4910-13-P